DEPARTMENT OF JUSTICE

Notice of Lodging of Proposed Consent Decree

In accordance with Departmental Policy, 28 CFR 50.7, section 122(d)(2) of the Comprehensive Environmental Response, Compensation, and Liability Act (“CERCLA”), 42 U.S.C. 9622(d)(2), and Paragraph 4.1 of the underlying Consent Decree, notice is hereby given that a proposed Amendment to the Consent Decree in United States v. Shell Oil. Co., Case No. 83-cv-2379, was lodged with the United States District Court for the District of Colorado on September 28, 2023.

Previously, a Consent Decree resolving claims under CERCLA related to the former Rocky Mountain Arsenal outside of Denver, Colorado between the parties was entered in this case on February 12, 1993. That Consent Decree incorporated a February 12, 1989, Settlement Agreement between the United States and Shell Oil. Under the Consent Decree, the Army and Shell Oil are obligated to pay the Environmental Protection Agency's CERCLA oversight costs for Army-led environmental cleanup activities at the Rocky Mountain Arsenal. The proposed Amendment to the Consent Decree changes the manner in which the Environmental Protection Agency's CERCLA oversight costs will be paid, and fully resolves those costs.

The Department of Justice will accept written comments relating to this proposed Amendment to the Consent Decree for thirty (30) days from the date of publication of this Notice. Please address comments to Phillip R. Dupré, Post Office Box 7611, Washington, DC 20044 and/or pubcomment_eds.enrd@usdoj.gov and refer to United States v. Shell Oil Co., DJ No. 90-11-6-21352.

The proposed Amendment to the Consent Decree may be examined at the Clerk's Office, United States District Court for the District of Colorado, 901 19th Street, Denver, CO 80294. In addition, the proposed Consent Decree may be examined electronically at https://www.justice.gov/enrd/consent-decrees.

Cherie Rogers,
Assistant Section Chief, Environmental Defense Section, Environment and Natural Resources Division.

[FR Doc. 2023-21961 Filed 10-3-23; 8:45 am]

BILLING CODE P